GENERAL SERVICES ADMINISTRATION

Transportation Management Policy: Request for Comments on Discontinuing the Use of Standard Form (SF) 1113, Public Voucher for Transportation Charges and, and SF 1113-A (Memorandum Copy)

AGENCY: Office of Governmentwide Policy, General Services Administration (GSA).

ACTION: Notice.

SUMMARY: The General Services Administration (GSA) is proposing to discontinue use of the Standard Form (SF) 1113, Public Voucher for Transportation Charges, and its memorandum copy, SF 1113-A, in the current paper format. As the Federal Government continues to align its long-standing business practices to reflect the best and most successful business practices used commercially, conversion to electronic commerce has become most significant. Accordingly, an approved electronic version of SF 1113 and SF 1113-A will be acceptable. Based on comments received, GSA also will determine the feasibility of allowing transportation service providers to use their individual invoices for the electronic billing of transportation charges.

The General Services Administration is interested in all comments, especially from Government paying, finance, and disbursing offices, that specify the minimum information that must be included in any billing document submitted for payment.

DATES: Send your written comments by August 27, 2004.

ADDRESSES: Send your written comments to Ted J. Bembenek, Jr., Office of Governmentwide Policy (MTL), General Services Administration, 1800 F Street, NW., Room 1221-B, Washington, DC 20405. Send e-mail comments to: ted.bembenek@gsa.gov.

FOR FURTHER INFORMATION CONTACT: Ted J. Bembenek, Jr., Director, Transportation Management Policy Division, Office of Governmentwide Policy, GSA, at (202) 208-7629, or Internet e-mail at ted.bembenek@gsa.gov.

SUPPLEMENTARY INFORMATION:

A. Background

In lieu of other voucher forms, SF 1113 and SF 1113-A were first prescribed in 1943 by the General Accounting Office (GAO) to improve and standardize carrier freight billing procedures. The advantages and disadvantages of allowing carriers to use their own billing forms, in lieu of SF 1113 and SF 1113-A, were considered in the 1969 Joint Agency Transportation Study (JATS). Responses from most of the carriers and Government agencies queried in that study indicated a preference for using SF 1113 and SF 1113-A over individual carrier invoices. The agencies maintained that use of Government forms expedited the processing and paying of carrier bills, and the carriers indicated they were having no problems using these forms. The General Services Administration (GSA now prescribes use of SF 1113 and its memorandum copy, SF 1113-A ), in part 102-117 of the Federal Management Regulation (FMR) (41 CFR part 102-117).

During the time that SF 1113 and SF 1113-A have been in use, there have been many management improvements in how the Government conducts its transportation business. Much of this effort is linked to the implementation of electronic Government as a critical tool to standardize and streamline processes related to transportation, as well as its other business lines. GSA is of the opinion that the Government's interests will not be compromised through electronic payment requests.

B. Request for Comments

The General Services Administration (GSA) is seeking additional information. Transportation service providers and other interested parties are urged to participate by returning comments. Federal agencies' finance, paying, and disbursing offices are asked to identify the information that is required regardless of what payment instrument is submitted. Official address, contact, and due date for submitting comments are stated above.

Dated: June 22, 2004.
Ted J. Bembenek, Jr.,
Director, Transportation Management Policy Division.

[FR Doc. 04-14601 Filed 6-25-04; 8:45 am]

BILLING CODE 6820-14-S